DEPARTMENT OF LABOR

Employment and Training Administration

[TA-W-60,277]

Creative Engineering Products, Formerly Known as Carlisle Engineered Products, Belleville Division, a Subsidiary of the Reserve Group, Belleville, MI; Dismissal of Application for Reconsideration

Pursuant to 29 CFR 90.18(C) an application for administrative reconsideration was filed with the Director of the Division of Trade Adjustment Assistance for workers at Creative Engineering Products, formerly known as Carlisle Engineered Products, Belleville Division, a subsidiary of the Reserve Group, Belleville, Michigan. The application did not contain new information supporting a conclusion that the determination was erroneous, and also did not provide a justification for reconsideration of the determination that was based on either mistaken facts or a misinterpretation of facts or of the law. Therefore, dismissal of the application was issued.

TA-W-60,277; Creative Engineering Products, Formerly Known as Carlisle Engineered Products, Belleville Division, a Subsidiary of the Reserve Group. Belleville, Michigan (January 18, 2007)

Signed at Washington, DC, this 24th day of January 2007.
Ralph DiBattista,
Director, Division of Trade Adjustment Assistance.

[FR Doc. E7-1697 Filed 2-1-07; 8:45 am]

BILLING CODE 4510-30-P